NATIONAL SCIENCE FOUNDATION

U.S. National Assessment Synthesis Team; Notice of Meeting

In accordance with the Federal Advisory Committee Act (Public Law 92-463, as amended), the National Science Foundation announces the following meeting:

Name: U.S. National Assessment Synthesis Team (#5219).

Date/Time: August 24, 2000; 8 a.m.-5:30 p.m. (Note: signups for making public comments will begin at 7:45 a.m.)

Place: Historic Inns of Annapolis, Governor Calvert Conference Center, 58 State Circle, Annapolis, MD, 21401.

Type of Meeting: Open.

Contact Person: Dr. Thomas Spence, National Science Foundation, 4201 Wilson Blvd., Suite 705, Arlington, VA 22230. Tel 703-306-1502 (703-292-5078 as of July 31); Fax: 703-306-0372 (703-292-9042 as of July 31); Email: tspence@nsf.gov. Interested persons should contact Ms. Susan Hensen at the above number as soon as possible to ensure space provisions are made for all participants and observers.

Meeting Minutes: May be obtained from the contact person listed above.

Purpose of Meeting: To review public comments on the draft report of the National Assessment Synthesis Team on the potential consequences of climate variability and climate change for the United States and to consider changes to the draft report in preparation for final review by the National Science and Technology Council.

Agenda: Members will review comments received during the public comment period and discuss and decide upon revisions to the draft report; parts of meeting may be subdivided into three concurrent subpanels, each of which will be open to the public. Beginning at approximately 8:30 AM, up to one hour will be provided for oral presentations by members of the public. Signups for making public comments will begin at 7:45 am.

Dated: July 24, 2000.
Karen J. York,
Committee Management Officer.

[FR Doc. 00-19032 Filed 7-26-00; 8:45 am]

BILLING CODE 7555-01-M